DEPARTMENT OF LABOR

Employment and Training Administration

Notice on Reallotment of Workforce Innovation Opportunity Act (WIOA) Title I Formula Allotted Funds for Dislocated Worker Activities for Program Year (PY) 2016

AGENCY: Employment and Training Administration (ETA), Labor.

ACTION: Notice.

SUMMARY: The Workforce Innovation Opportunity Act (WIOA), requires the Secretary of Labor (Secretary) to conduct reallotment of certain WIOA formula allotted funds based on ETA 9130 financial reports submitted by states as of the end of the prior program year (PY). This notice publishes the dislocated worker PY 2016 funds for recapture by state and the amount to be reallotted to eligible states.

DATES: This notice is effective April 5, 2017.

FOR FURTHER INFORMATION CONTACT: Ms. Amanda Ahlstrand, Administrator, U.S. Department of Labor, Office of Workforce Investment, Employment and Training Administration, Room C-4526, 200 Constitution Avenue NW., Washington, DC. Telephone (202) 693-3052 (this is not a toll-free number) or fax (202) 693-3981.

SUPPLEMENTARY INFORMATION: In the Fiscal Year (FY) 2016 Appropriations Act, Congress appropriated WIOA PY 2016 funds in two portions: (1) Funds available for obligation July 1, 2016 (i.e., PY 2016 “base” funds), and (2) funds available for obligation October 1, 2016 (i.e., Fiscal Year (FY) 2017 “advance” funds). Together, these two portions make up the complete PY 2016 WIOA funding. Training and Employment Guidance Letter No. 17-15 announced WIOA allotments based on this appropriation and alerted states to the recapture and reallotment of funds' provisions, as required under WIOA Section 132(c). This section of WIOA requires the Secretary of Labor (Secretary) to conduct reallotment of excess unobligated WIOA Adult, Youth, and Dislocated Worker formula funds based on ETA 9130 financial reports submitted by states at the end of the prior program year (i.e., PY 2015).

WIOA regulations at 20 CFR 693.135 describe the procedures the Secretary uses for recapture and reallotment of funds. ETA will not recapture any PY 2016 funds for the Adult and Youth programs because there are no states where PY 2015 unobligated funds exceed the statutory requirements of 20 percent of state allotted funds. However, for the Dislocated Worker program, Kentucky had unobligated PY 2015 funds in excess of 20 percent of its allotment. Therefore, ETA will recapture a total of $805,082 of PY 2016 funding from Kentucky and reallot those funds to the remaining eligible states, as required by WIOA Section 132(c).

ETA will issue a Notice of Award to the states to reflect the recapture and reallotment of these funds. The adjustment of funds will be made to the FY 2017 advance portion of the PY 2016 allotments, which ETA issued in October 2016. The attached tables display the net changes to PY 2016 formula allotments and a description of the reallotment methodology.

WIOA and its implementing regulations do not provide specific requirements by which states must distribute realloted funds, so states have flexibility to determine the methodology used.

For any state subject to recapture of funds, WIOA Section 132(c)(5) requires the Governor to prescribe equitable procedures for reacquiring funds from the state and local areas.

As mentioned, the recapture/reallotment adjustments will be made to the FY 2017 advance portion of the PY 2016 allotment. Therefore, for reporting purposes, states must reflect the recapture/reallotment amount (decrease or increase) in the “Total Federal Funds Authorized” line of any affected FY 2017 ETA 9130 financial reports (State Dislocated Worker Activities, Statewide Rapid Response, Local Dislocated Worker Activities) in a manner consistent with the method of distribution of these amounts to state and local areas used by the state. The state must include an explanation of the adjustment in the remarks section of the adjusted reports.

I. Attachment A

U.S. Department of Labor Employment and Training Administration WIOA Dislocated Worker Activities PY 2016 Reallotment to States
[02/08/2017]
| Calculating reallotment amount: Excess unobligated PY 2015 funds to be recaptured from PY 2016 funds | Calculating reallotment amount: Eligible states' PY 2015 ¹ dislocated worker allotments | Calculating reallotment amount: Reallotment amount for eligible states (based on eligible states' share of PY 2015 allotments) | Impact on PY 2016 allotments: Total original PY 2016 allotments before reallotment | Impact on PY 2016 allotments: Recapture/ reallotment adjustment to PY 2016 allotments | Impact on PY 2016 allotments: Revised total PY 2016 allotments
Alabama | $0 | $15,012,219 | $12,128 | $16,427,975 | $12,128 | $16,440,103
Alaska | 0 | 2,184,119 | 1,765 | 2,854,009 | 1,765 | 2,855,774
Arizona ** | 0 | 22,511,715 | 18,187 | 25,029,051 | 18,187 | 25,047,238
Arkansas | 0 | 8,052,059 | 6,505 | 7,757,044 | 6,505 | 7,763,549
California | 0 | 164,063,131 | 132,548 | 169,644,376 | 132,548 | 169,776,924
Colorado | 0 | 13,622,336 | 11,006 | 12,323,381 | 11,006 | 12,334,387
Connecticut | 0 | 13,612,474 | 10,998 | 14,353,697 | 10,998 | 14,364,695
Delaware | 0 | 2,596,904 | 2,098 | 2,349,277 | 2,098 | 2,351,375
District of Columbia | 0 | 3,443,627 | 2,782 | 4,499,821 | 2,782 | 4,502,603
Florida | 0 | 61,786,732 | 49,918 | 65,053,785 | 49,918 | 65,103,703
Georgia | 0 | 39,981,701 | 32,301 | 40,521,426 | 32,301 | 40,553,727
Hawaii | 0 | 1,931,277 | 1,560 | 1,894,161 | 1,560 | 1,895,721
Idaho | 0 | 2,636,879 | 2,130 | 2,385,440 | 2,130 | 2,387,570
Illinois | 0 | 58,325,151 | 47,121 | 52,763,567 | 47,121 | 52,810,688
Indiana | 0 | 17,611,408 | 14,228 | 17,062,801 | 14,228 | 17,077,029
Iowa | 0 | 4,426,239 | 3,576 | 4,004,176 | 3,576 | 4,007,752
Kansas | 0 | 4,682,959 | 3,783 | 4,609,831 | 3,783 | 4,613,614
Kentucky | 805,082 | 0 | 0 | 14,673,688 | (805,082) | 13,868,606
Louisiana | 0 | 9,215,660 | 7,445 | 12,042,192 | 7,445 | 12,049,637
Maine | 0 | 3,592,396 | 2,902 | 3,249,844 | 2,902 | 3,252,746
Maryland | 0 | 17,549,612 | 14,178 | 18,580,386 | 14,178 | 18,594,564
Massachusetts | 0 | 21,265,196 | 17,180 | 19,237,457 | 17,180 | 19,254,637
Michigan | 0 | 40,080,962 | 32,382 | 36,259,049 | 32,382 | 36,291,431
Minnesota | 0 | 8,332,420 | 6,732 | 7,537,884 | 6,732 | 7,544,616
Mississippi | 0 | 11,047,184 | 8,925 | 11,826,808 | 8,925 | 11,835,733
Missouri | 0 | 18,476,297 | 14,927 | 17,142,075 | 14,927 | 17,157,002
Montana | 0 | 1,699,458 | 1,373 | 1,537,406 | 1,373 | 1,538,779
Nebraska | 0 | 2,016,308 | 1,629 | 1,824,043 | 1,629 | 1,825,672
Nevada | 0 | 13,272,377 | 10,723 | 14,417,704 | 10,723 | 14,428,427
New Hampshire | 0 | 2,355,019 | 1,903 | 2,130,457 | 1,903 | 2,132,360
New Jersey | 0 | 33,968,534 | 27,443 | 38,809,709 | 27,443 | 38,837,152
New Mexico ** | 0 | 6,691,816 | 5,406 | 7,937,300 | 5,406 | 7,942,706
New York | 0 | 69,009,253 | 55,753 | 62,428,888 | 55,753 | 62,484,641
North Carolina | 0 | 31,698,026 | 25,609 | 31,022,721 | 25,609 | 31,048,330
North Dakota | 0 | 566,170 | 457 | 728,444 | 457 | 728,901
Ohio | 0 | 33,758,857 | 27,274 | 30,539,787 | 27,274 | 30,567,061
Oklahoma | 0 | 5,943,501 | 4,802 | 5,376,760 | 4,802 | 5,381,562
Oregon | 0 | 13,672,401 | 11,046 | 14,140,167 | 11,046 | 14,151,213
Pennsylvania | 0 | 37,184,902 | 30,042 | 36,591,154 | 30,042 | 36,621,196
Puerto Rico | 0 | 20,357,210 | 16,447 | 25,824,090 | 16,447 | 25,840,537
Rhode Island | 0 | 5,533,256 | 4,470 | 5,005,633 | 4,470 | 5,010,103
South Carolina | 0 | 12,481,973 | 10,084 | 16,310,315 | 10,084 | 16,320,399
South Dakota | 0 | 856,158 | 692 | 1,070,734 | 692 | 1,071,426
Tennessee | 0 | 21,507,643 | 17,376 | 23,146,617 | 17,376 | 23,163,993
Texas | 0 | 55,598,809 | 44,919 | 50,297,194 | 44,919 | 50,342,113
Utah ** | 0 | 2,963,244 | 2,394 | 3,143,067 | 2,394 | 3,145,461
Vermont | 0 | 806,732 | 652 | 890,075 | 652 | 890,727
Virginia | 0 | 17,685,631 | 14,288 | 16,945,520 | 14,288 | 16,959,808
Washington | 0 | 19,533,856 | 15,782 | 22,462,284 | 15,782 | 22,478,066
West Virginia | 0 | 4,814,588 | 3,890 | 6,291,269 | 3,890 | 6,295,159
Wisconsin | 0 | 15,763,228 | 12,735 | 14,260,128 | 12,735 | 14,272,863
Wyoming | 0 | 728,014 | 588 | 740,333 | 588 | 740,921
State total | 805,082 | 996,507,621 | 805,082 | 1,017,955,000 | 0 | 1,017,955,000
** Includes Navajo Nation.
¹ PY 2015 allotment amounts are used to determine the reallotment amount eligible states receive of the recaptured amount.

II. Attachment B

U.S. Department of Labor, Employment and Training Administration, WIOA Dislocated Worker Activities, PY 2016 Revised Allotments With Reallotment—PY/FY Split
[01/27/2017]
| Total allotment: Original | Total allotment: Recapture/ reallotment | Total allotment: Revised | Available 7/1/16: Original | Available 7/1/16: Recapture/ reallotment | Available 7/1/16: Revised | Available 10/1/16: Original | Available 10/1/16: Recapture/ reallotment | Available 10/1/16: Revised
Alabama | 16,427,975 | 12,128 | 16,440,103 | 2,595,993 |  | 2,595,993 | 13,831,982 | 12,128 | 13,844,110
Alaska | 2,854,009 | 1,765 | 2,855,774 | 450,998 |  | 450,998 | 2,403,011 | 1,765 | 2,404,776
Arizona * | 25,029,051 | 18,187 | 25,047,238 | 3,955,158 |  | 3,955,158 | 21,073,893 | 18,187 | 21,092,080
Arkansas | 7,757,044 | 6,505 | 7,763,549 | 1,225,789 |  | 1,225,789 | 6,531,255 | 6,505 | 6,537,760
California | 169,644,376 | 132,548 | 169,776,924 | 26,807,663 |  | 26,807,663 | 142,836,713 | 132,548 | 142,969,261
Colorado | 12,323,381 | 11,006 | 12,334,387 | 1,947,374 |  | 1,947,374 | 10,376,007 | 11,006 | 10,387,013
Connecticut | 14,353,697 | 10,998 | 14,364,695 | 2,268,210 |  | 2,268,210 | 12,085,487 | 10,998 | 12,096,485
Delaware | 2,349,277 | 2,098 | 2,351,375 | 371,239 |  | 371,239 | 1,978,038 | 2,098 | 1,980,136
District of Columbia | 4,499,821 | 2,782 | 4,502,603 | 711,074 |  | 711,074 | 3,788,747 | 2,782 | 3,791,529
Florida | 65,053,785 | 49,918 | 65,103,703 | 10,279,975 |  | 10,279,975 | 54,773,810 | 49,918 | 54,823,728
Georgia | 40,521,426 | 32,301 | 40,553,727 | 6,403,305 |  | 6,403,305 | 34,118,121 | 32,301 | 34,150,422
Hawaii | 1,894,161 | 1,560 | 1,895,721 | 299,320 |  | 299,320 | 1,594,841 | 1,560 | 1,596,401
Idaho | 2,385,440 | 2,130 | 2,387,570 | 376,954 |  | 376,954 | 2,008,486 | 2,130 | 2,010,616
Illinois | 52,763,567 | 47,121 | 52,810,688 | 8,337,841 |  | 8,337,841 | 44,425,726 | 47,121 | 44,472,847
Indiana | 17,062,801 | 14,228 | 17,077,029 | 2,696,310 |  | 2,696,310 | 14,366,491 | 14,228 | 14,380,719
Iowa | 4,004,176 | 3,576 | 4,007,752 | 632,751 |  | 632,751 | 3,371,425 | 3,576 | 3,375,001
Kansas | 4,609,831 | 3,783 | 4,613,614 | 728,458 |  | 728,458 | 3,881,373 | 3,783 | 3,885,156
Kentucky | 14,673,688 | (805,082) | 13,868,606 | 2,318,776 |  | 2,318,776 | 12,354,912 | (805,082) | 11,549,830
Louisiana | 12,042,192 | 7,445 | 12,049,637 | 1,902,940 |  | 1,902,940 | 10,139,252 | 7,445 | 10,146,697
Maine | 3,249,844 | 2,902 | 3,252,746 | 513,549 |  | 513,549 | 2,736,295 | 2,902 | 2,739,197
Maryland | 18,580,386 | 14,178 | 18,594,564 | 2,936,123 |  | 2,936,123 | 15,644,263 | 14,178 | 15,658,441
Massachusetts | 19,237,457 | 17,180 | 19,254,637 | 3,039,955 |  | 3,039,955 | 16,197,502 | 17,180 | 16,214,682
Michigan | 36,259,049 | 32,382 | 36,291,431 | 5,729,753 |  | 5,729,753 | 30,529,296 | 32,382 | 30,561,678
Minnesota | 7,537,884 | 6,732 | 7,544,616 | 1,191,157 |  | 1,191,157 | 6,346,727 | 6,732 | 6,353,459
Mississippi | 11,826,808 | 8,925 | 11,835,733 | 1,868,904 |  | 1,868,904 | 9,957,904 | 8,925 | 9,966,829
Missouri | 17,142,075 | 14,927 | 17,157,002 | 2,708,837 |  | 2,708,837 | 14,433,238 | 14,927 | 14,448,165
Montana | 1,537,406 | 1,373 | 1,538,779 | 242,945 |  | 242,945 | 1,294,461 | 1,373 | 1,295,834
Nebraska | 1,824,043 | 1,629 | 1,825,672 | 288,240 |  | 288,240 | 1,535,803 | 1,629 | 1,537,432
Nevada | 14,417,704 | 10,723 | 14,428,427 | 2,278,325 |  | 2,278,325 | 12,139,379 | 10,723 | 12,150,102
New Hampshire | 2,130,457 | 1,903 | 2,132,360 | 336,661 |  | 336,661 | 1,793,796 | 1,903 | 1,795,699
New Jersey | 38,809,709 | 27,443 | 38,837,152 | 6,132,815 |  | 6,132,815 | 32,676,894 | 27,443 | 32,704,337
New Mexico * | 7,937,300 | 5,406 | 7,942,706 | 1,254,274 |  | 1,254,274 | 6,683,026 | 5,406 | 6,688,432
New York | 62,428,888 | 55,753 | 62,484,641 | 9,865,182 |  | 9,865,182 | 52,563,706 | 55,753 | 52,619,459
North Carolina | 31,022,721 | 25,609 | 31,048,330 | 4,902,294 |  | 4,902,294 | 26,120,427 | 25,609 | 26,146,036
North Dakota | 728,444 | 457 | 728,901 | 115,111 |  | 115,111 | 613,333 | 457 | 613,790
Ohio | 30,539,787 | 27,274 | 30,567,061 | 4,825,980 |  | 4,825,980 | 25,713,807 | 27,274 | 25,741,081
Oklahoma | 5,376,760 | 4,802 | 5,381,562 | 849,650 |  | 849,650 | 4,527,110 | 4,802 | 4,531,912
Oregon | 14,140,167 | 11,046 | 14,151,213 | 2,234,467 |  | 2,234,467 | 11,905,700 | 11,046 | 11,916,746
Pennsylvania | 36,591,154 | 30,042 | 36,621,196 | 5,782,233 |  | 5,782,233 | 30,808,921 | 30,042 | 30,838,963
Puerto Rico | 25,824,090 | 16,447 | 25,840,537 | 4,080,792 |  | 4,080,792 | 21,743,298 | 16,447 | 21,759,745
Rhode Island | 5,005,633 | 4,470 | 5,010,103 | 791,004 |  | 791,004 | 4,214,629 | 4,470 | 4,219,099
South Carolina | 16,310,315 | 10,084 | 16,320,399 | 2,577,400 |  | 2,577,400 | 13,732,915 | 10,084 | 13,742,999
South Dakota | 1,070,734 | 692 | 1,071,426 | 169,200 |  | 169,200 | 901,534 | 692 | 902,226
Tennessee | 23,146,617 | 17,376 | 23,163,993 | 3,657,691 |  | 3,657,691 | 19,488,926 | 17,376 | 19,506,302
Texas | 50,297,194 | 44,919 | 50,342,113 | 7,948,098 |  | 7,948,098 | 42,349,096 | 44,919 | 42,394,015
Utah * | 3,143,067 | 2,394 | 3,145,461 | 496,676 |  | 496,676 | 2,646,391 | 2,394 | 2,648,785
Vermont | 890,075 | 652 | 890,727 | 140,652 |  | 140,652 | 749,423 | 652 | 750,075
Virginia | 16,945,520 | 14,288 | 16,959,808 | 2,677,777 |  | 2,677,777 | 14,267,743 | 14,288 | 14,282,031
Washington | 22,462,284 | 15,782 | 22,478,066 | 3,549,551 |  | 3,549,551 | 18,912,733 | 15,782 | 18,928,515
West Virginia | 6,291,269 | 3,890 | 6,295,159 | 994,163 |  | 994,163 | 5,297,106 | 3,890 | 5,300,996
Wisconsin | 14,260,128 | 12,735 | 14,272,863 | 2,253,424 |  | 2,253,424 | 12,006,704 | 12,735 | 12,019,439
Wyoming | 740,333 | 588 | 740,921 | 116,989 |  | 116,989 | 623,344 | 588 | 623,932
State Total | 1,017,955,000 |  | 1,017,955,000 | 160,860,000 |  | 160,860,000 | 857,095,000 |  | 857,095,000
* Includes funds allocated to the Navajo Nation.

III. Attachment C

Dislocated Worker (DW) State Formula PY 2016 Reallotment Methodology

Reallotment Summary: This year the Employment and Training Administration (ETA) analyzed Dislocated Worker ETA 9130 financial reports from the June 30, 2016 reporting period for funds provided to states in PY 2015, to determine if any state had unobligated funds in excess of 20 percent of their PY 2015 allotment amount. If so, ETA will recapture that amount from PY 2016 funds and reallot the recaptured funds among eligible states.

• Source Data: ETA 9130 financial reports.

• Programs: State Dislocated Worker, Statewide Rapid Response, Local Dislocated Worker.

• Period: June 30, 2016.

• Years covered: PY 2015 and FY 2016.

Reallotment Calculation Process

1. Determine each state's unobligated balance: ETA computes the state's total amount of PY 2015 state obligations (including FY 2016 funds) for the DW program. State obligations are the sum of DW statewide activities obligations, Statewide Rapid Response obligations, and 100 percent of what the state authorizes for DW local activities (which includes program and administrative funds). To determine the unobligated balance for the DW program, ETA subtracts the total DW obligations amount from the state's total PY 2015 DW allotment (Note: for this process, ETA adds DW allotted funds transferred to the Navajo Nation back to Arizona, New Mexico, and Utah local DW authorized amounts).

2. Excluding state administrative costs: Section 683.135 of the regulations provides that the recapture calculations exclude the reserve for state administration which is part of the DW statewide activities. States do not report data on state administrative amounts authorized and obligated on the ETA 9130 financial reports. In the preliminary calculation, to determine states potentially liable for recapture, ETA estimates the DW portion of the state administrative amount authorized by calculating the five percent maximum amount for state DW administrative costs using the DW state allotment amounts (excluding any recapture/reallotment that occurred). ETA treats 100 percent of the state's estimated amount authorized for administration as obligated, although the estimate of state administration obligations is limited by reported statewide activities obligations overall.

3. Follow-up with states potentially liable for recapture: ETA requests that those states potentially liable for recapture provide additional data on state administrative amounts which are not regularly reported on the PY 2015 and FY 2016 statewide activities reports. The additional information requested includes the amount of statewide activities funds the state authorized and obligated for state administration as of June 30, 2016. If a state provides actual state DW administrative costs, authorized and obligated, in the comments section of revised ETA 9130 reports, this data replaces the estimates. Based on the requested actual data submitted by potentially liable states on revised reports, ETA reduces the DW total allotment for these states by the amount states indicate they authorized for state administrative costs. Likewise, ETA reduces the DW total obligations for these states by the portion actually obligated for state administration.

4. Recapture calculation: States (including those adjusted by actual state administrative data) with unobligated balances exceeding 20 percent of the total PY 2015 DW allotment amount (including PY 2015 “base” funds and FY 2016 “advance” funds) will have their PY 2016 DW funding (from the FY 2017 “advance” portion) reduced (recaptured) by the amount of the excess.

5. Reallotment calculation: Finally, states with unobligated balances which do not exceed 20 percent (eligible states) will receive a share of the total recaptured amount (based on their share of the total PY 2015 (including their PY 2015 “base” and FY 2016 “advance” amount DW allotments) in their PY 2016 DW funding (in the FY 2017 “advance” portion).

Signed at Washington, DC, this March 15, 2017.
Byron Zuidema,
Deputy Assistant Secretary for the Employment and Training Administration.

[FR Doc. 2017-06779 Filed 4-4-17; 8:45 am]

BILLING CODE 4510-30-P